FEDERAL COMMUNICATIONS COMMISSION

47 CFR Part 25

Satellite Communications

CFR Correction

In Title 47 of the Code of Federal Regulations, Parts 20 to 39, revised as of October 1, 2017, on page 265, the Effective Date Note at the end of § 25.220 is removed.

[FR Doc. 2018-05247 Filed 3-13-18; 8:45 am]

BILLING CODE 1301-00-D